SUSQUEHANNA RIVER BASIN COMMISSION

Public Hearing

AGENCY: Susquehanna River Basin Commission.

ACTION: Notice.

SUMMARY: The Susquehanna River Basin Commission will hold a public hearing on May 9, 2019, in Harrisburg, Pennsylvania. At this public hearing, the Commission will hear testimony on the projects listed in the Supplementary Information section of this notice. Such projects are intended to be scheduled for Commission action at its next business meeting, tentatively scheduled for June 14, 2019, which will be noticed separately. The public should take note that this public hearing will be the only opportunity to offer oral comment to the Commission for the listed projects. The deadline for the submission of written comments is May 20, 2019.

DATES: The public hearing will convene on May 9, 2019, at 2:30 p.m. The public hearing will end at 5:00 p.m. or at the conclusion of public testimony, whichever is sooner. The deadline for the submission of written comments is May 20, 2019.

ADDRESSES: The public hearing will be conducted at the Pennsylvania State Capitol, East Wing, Room 8EB, Harrisburg, Pa.

FOR FURTHER INFORMATION CONTACT: Jason Oyler, General Counsel and Secretary to the Commission, telephone: (717) 238-0423; fax: (717) 238-2436. Information concerning the applications for these projects is available at the Commission's Water Application and Approval Viewer at https://mdw.srbc.net/waav. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor and Facility: Project Sponsor and Facility: ARD Operating, LLC (Pine Creek), McHenry Township, Lycoming County, Pa. Application for renewal of surface water withdrawal of up to 1.500 mgd (peak day) (Docket No. 20150601).

2. Project Sponsor and Facility: BKV Operating, LLC (Meshoppen Creek), Washington Township, Wyoming County, Pa. Application for renewal of surface water withdrawal of up to 2.160 mgd (peak day) (Docket No. 20150602).

3. Project Sponsor and Facility: BKV Operating, LLC (Susquehanna River), Washington Township, Wyoming County, Pa. Application for surface water withdrawal of up to 2.914 mgd (peak day).

4. Project Sponsor and Facility: BKV Operating, LLC (Unnamed Tributary to Middle Branch Wyalusing Creek), Forest Lake Township, Susquehanna County, Pa. Application for renewal of surface water withdrawal of up to 0.648 mgd (peak day) (Docket No. 20150603).

5. Project Sponsor and Facility: Town of Chenango, Broome County, N.Y. Application for renewal of groundwater withdrawal of up to 0.600 mgd (30-day average) from Well 12A (Docket No. 19871103).

6. Project Sponsor and Facility: Epsilon Energy USA, Inc. (East Branch Wyalusing Creek), Rush Township, Susquehanna County, Pa. Application for surface water withdrawal of up to 0.715 mgd (peak day).

7. Project Sponsor and Facility: Hydro Recovery, LP, Blossburg Borough, Tioga County, Pa. Application for renewal of groundwater withdrawal of up to 0.216 mgd (30-day average) from Well HR-1 (Docket No. 20150608).

8. Project Sponsor and Facility: Hydro Recovery, LP, Blossburg Borough, Tioga County, Pa. Application for renewal of consumptive use of up to 0.316 mgd (peak day) (Docket No. 20150608).

9. Project Sponsor: Project Sponsor and Facility: Keystone Clearwater Solutions, LLC (Lycoming Creek), Lewis Township, Lycoming County, Pa. Application for renewal of surface water withdrawal of up to 1.250 mgd (peak day) (Docket No. 20150610).

10. Project Sponsor: Ski Roundtop Operating Corporation. Project Facility: Roundtop Mountain Resort (Unnamed Tributary to Beaver Creek), Warrington Township, York County, Pa. Modification to change from peak day to 30-day average for surface water withdrawal and consumptive use limits (Docket No. 20031209).

11. Project Sponsor and Facility: Stewartstown Borough Authority, Hopewell Township, York County, Pa. Application for renewal of groundwater withdrawal of up to 0.019 mgd (30-day average) from Well 5A4 (Docket No. 19890703).

12. Project Sponsor and Facility: Stewartstown Borough Authority, Hopewell Township, York County, Pa. Application for renewal of groundwater withdrawal of up to 0.033 mgd (30-day average) from Well 5J2 (Docket No. 19890703).

13. Project Sponsor and Facility: Stewartstown Borough Authority, Hopewell Township, York County, Pa. Application for renewal of groundwater withdrawal of up to 0.051 mgd (30-day average) from Well 5R2 (Docket No. 19890703).

14. Project Sponsor: SUEZ Water Pennsylvania Inc. Project Facility: Newberry Operation, Newberry Township, York County, Pa. Application for renewal of groundwater withdrawal of up to 0.072 mgd (30-day average) from the Dupont Well (Docket No. 19880401).

15. Project Sponsor and Facility: Sunset Golf Course, Londonderry Township, Dauphin County, Pa. Application for groundwater withdrawal of up to 0.059 mgd (30-day average) from Well 7.

16. Project Sponsor and Facility: Sunset Golf Course, Londonderry Township, Dauphin County, Pa. Minor modification to add a new source (Well 7) to existing consumptive use approval (no increase requested in consumptive use quantity) (Docket No. 19990506).

17. Project Sponsor and Facility: Warwick Township Municipal Authority, Warwick Township, Lancaster County, Pa. Application for renewal of groundwater withdrawal of up to 0.288 mgd (30-day average) from Well 1 (Docket No. 19890103).

Opportunity To Appear and Comment

Interested parties may appear at the hearing to offer comments to the Commission on any business listed above required to be subject of a public hearing. The presiding officer reserves the right to limit oral statements in the interest of time and to otherwise control the course of the hearing. Guidelines for the public hearing are posted on the Commission's website, www.srbc.net, prior to the hearing for review. The presiding officer reserves the right to modify or supplement such guidelines at the hearing. Written comments on any business listed above required to be subject of a public hearing may also be mailed to Mr. Jason Oyler, Secretary to the Commission, Susquehanna River Basin Commission, 4423 North Front Street, Harrisburg, Pa. 17110-1788, or submitted electronically through www.srbc.net/about/meetings-events/public-hearing.html. Comments mailed or electronically submitted must be received by the Commission on or before May 20, 2019, to be considered.

Authority: Pub. L. 91-575, 84 Stat. 1509 et seq., 18 CFR parts 806, 807, and 808.

Dated: April 5, 2019.
Jason E. Oyler,
General Counsel and Secretary to the Commission.

[FR Doc. 2019-07120 Filed 4-10-19; 8:45 am]

BILLING CODE 7040-01-P